ENVIRONMENTAL PROTECTION AGENCY

[ER-FRL-6686-7]

Environmental Impacts Statements; Notice of Availability

Responsible Agency: Office of Federal Activities, General Information, (202) 564-7167 or http://www.epa.gov/compliance/nepa/.

Weekly receipt of Environmental Impact Statements Filed through pursuant to 40 CFR 1506.9

EIS No. 20070176, Draft EIS, AFS, CO, Spruce Creek Project, Proposed Timber Harvest, Temporary Road Construction, Thinning of Sub-Merchantable Trees, Enhancement of Asper and Whitebark Pine, Cascade Ranger District, Boise National Forest, Valley County, ID, Comment Period Ends: 6/25/2007, Contact: Keith Dimmett, 208-382-7400.

EIS No. 20070177, Draft EIS, AFS, OR, Spears Vegetation Management Project, Proposal to Use Commercial Timber Harvest, Precommercial Thinning, Prescribed Fire, Grapple Piling and Hand Piling in the Mark Creek Watershed and Veaqie Creek Subwatershed, Lookout Mountain Ranger District, Ochoco National Forest, Crook and Wheeler Counties, OR, Comment Period Ends: 6/25/2007, Contact: Katherine Farrell, 541-416-6500.

EIS No. 20070178, Final EIS, AFS, 00, Kootenai National Forest Invasive Plant Management, Proposes to Manage Noxious Weed and Invasive Plant Species, Lincoln Sanders, Flathead Counties, MT and Bonner and Boundary Counties, ID, Wait Period Ends: 6/11/2007, Contact: John Gubel, 406-283-7774.

EIS No. 20070179, Final Supplement, AFS, WA, School Fire Salvage Recovery Project, To Clarify Definitions of Live and Dead Trees, Implementation, Pomeroy Ranger District, Umatilla National Forest, Columbia and Garfield Counties, WA, Wait Period Ends: 6/11/2007, Contact: Dean R. Millett, 509-843-1891.

EIS No. 20070180, Final EIS, NOA, 00, Programmatic—Steller Sea Lion and Northern Fur Seal Research, Proposal to Disburse Funds and Issue Permit for Research, AK, WA, OR and CA, Wait Period Ends: 6/11/2007, Contact: P. Michael Payne, 301-713-2289.

EIS No. 20070181, Draft EIS, FHW, VT, Middlebury Spur Project, Improvements to the Freight Transportation System in the Town of Middlebury in Addison County to the Town of Pittsford in Rutland County, VT, Comment Period Ends: 6/29/2007, Contact: Kenneth Sikora, Jr., 802-828-4423.

EIS No. 20070182, Final EIS, COE, MD, Masonville Dredged Material Containment Facility, New Information, New Source of Dike Building Material from the Seagirt Dredging Project within the Patapsco River, Funding, Baltimore, MD, Wait Period Ends: 6/11/2007, Contact: Jon Romeo, 410-962-6079.

Amended Notices

EIS No. 20070080, Draft EIS, NIG, CA, Graton Rancheria Casino and Hotel Project, Transfer of Land into Trust, Implementation, Federated Indians of Graton Rancheria (Tribe), Sonoma County, CA, Comment Period Ends: 6/4/2007, Contact: Brad Mehaffy, 202-632-7003. Revision of FR Notice Published 3/9/2007: Extending Comment Period from 5/14/2007 to 6/4/2007.

EIS No. 20070103, Draft EIS, FHW, NY, Kosciuszko Bridge Project, Propose Rehabilitation or Replacement a 1.1 mile Segment Brooklyn-Queens Expressway (−278) from Morgan Avenue in Brooklyn and the Long Island Expressway (1495) in Queens, Kings and Queens Counties, NY, Comment Period Ends: 6/15/2007, Contact: Robert Arnold, 518-431-4127. Revision of FR Notice Published 3/23/2007: Extending Comment Period from 5/25/2007 to 6/15/2007.

Dated: May 8, 2007.
Ken Mittelholtz,
Environmental Protection Specialist, Office of Federal Activities.

[FR Doc. E7-9136 Filed 5-10-07; 8:45 am]

BILLING CODE 6560-50-P